DEPARTMENT OF ENERGY

Federal Energy Regulatory Commission

[Project No. 3451-047]

Beaver Falls Municipal Authority; Notice of Application Accepted for Filing and Soliciting Motions To Intervene and Protests

Take notice that the following hydroelectric application has been filed with the Commission and is available for public inspection.

a. Type of Application: New Major License.

b. Project No.: 3451-047.

c. Date filed: August 1, 2022.¹

¹ The Commission's Rules of Practice and Procedure provide that if a deadline falls on a Saturday, Sunday, holiday, or other day when the Commission is closed for business, the deadline does not end until the close of business on the next business day. 18 CFR 385.2007(a)(2). Because the deadline for filing a license application fell on a Sunday (i.e., July 31, 2022), the deadline was extended until the close of business on Monday, August 1, 2022.

d. Applicant: Beaver Falls Municipal Authority.

e. Name of Project: Townsend Water Power Project (Townsend Project or project).

f. Location: On the Beaver River, in the Borough of New Brighton in Beaver County, Pennsylvania.

g. Filed Pursuant to: Federal Power Act 16 U.S.C. 791(a)-825(r).

h. Applicant Contact: James Riggio, General Manager, Beaver Falls Municipal Authority, P.O. Box 400, Beaver Falls, PA 15010; (724) 846-2400.

i. FERC Contact: Claire Rozdilski at 202-502-8259; or email at claire.rozdilski@ferc.gov.

j. Deadline for filing motions to intervene and protests: 60 days from the issuance date of this notice.

The Commission strongly encourages electronic filing. Please file motions to intervene and protests using the Commission's eFiling system at http://www.ferc.gov/docs-filing/efiling.asp. For assistance, please contact FERC Online Support at FERCOnlineSupport@ferc.gov, (866) 208-3676 (toll free), or (202) 502-8659 (TTY). In lieu of electronic filing, you may send a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. All filings must clearly identify the project name and docket number on the first page: Townsend Water Power Project (P-3451-047).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted but is not ready for environmental analysis at this time.

l. The Townsend Project includes: (1) a 450-foot-long and 13-foot-high dam, constructed of rock-filled timber cribs encased in concrete, with a crest elevation 698.63 feet National Geodetic Vertical Datum of 1929 (NGVD29); (2) an approximately 25-acre reservoir with a gross storage capacity of 200 acre-feet at normal water surface elevation of 698.78 feet NGVD29; (3) a short entrance channel excavated in rock near the left dam abutment that directs water to an intake structure with 17-foot-wide trashracks with 5-inch clear bar spacing; (4) a 52-foot-long by 46-foot-wide concrete powerhouse; (5) two double-regulated open-pit type turbine-generator units each rated at 2,500 kilowatts (kW) for a total installed capacity of 5,000 kW; (6) an approximately 230-foot-long tailrace, excavated in rock at a normal tailwater elevation of 681.17 feet NGVD29; (7) a 500-foot-long, 23-kilovolt (kV) transmission line owned by Duquesne Light Company; (8) 4.16-kV generator leads, a 60-foot-long section of 5-kV underground cable leading to a 4.16/23-kV transformer in an outdoor substation; and (9) appurtenant facilities. The average annual generation was 19,524 megawatt-hours for the period from 2015 to 2019.

The Townsend Project operates in a run-of-river mode with a continuous minimum flow of 304 cubic feet per second (cfs), or inflow, whichever is less. The flow for operating a single unit is 600 cfs and minimum river flow for the project operation is 904 cfs. There is minimal to no available usable storage behind the dam and if river flow is less than 904 cfs, all water is spilled over the dam. The project is typically operated automatically, but manual operation may occur during dynamic high-water events. The project is returned to automatic operation when flow decreases.

m. A copy of the application is available for review via the internet through the Commission's Home Page (http://www.ferc.gov), using the “eLibrary” link. Enter the docket number, excluding the last three digits in the docket number field, to access the document. For assistance, contact FERC at FERCOnlineSupport@ferc.gov or call toll free, (886) 208-3676 or TTY (202) 502-8659.

You may also register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, environmental justice communities, Tribal members, and others, access publicly available information and navigate Commission processes. For public inquiries and assistance with making filings such as interventions, comments, or requests for rehearing, the public is encouraged to contact OPP at (202) 502-6595, or OPP@ferc.gov.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following schedule. Revisions to the schedule will be made as appropriate.

Issue Scoping Document 1 for comments | March 2024.
Issue Scoping Document 1 for comments | March 2024.
Hold Scoping Meeting | April 2024.
Scoping Document 1 comments due | May 2024.
Request Additional Information (if necessary) | June 2024.
Issue Scoping Document 2 (if necessary) | June 2024.
Issue Notice of Ready for Environmental Analysis | June 2024.

Dated: February 1, 2024.
Debbie-Anne A. Reese,
Acting Secretary.

[FR Doc. 2024-02465 Filed 2-6-24; 8:45 am]

BILLING CODE 6717-01-P